SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: April 1-30, 2018.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(e) and § 806.22 (f) for the time period specified above:

Approvals by Rule Issued Under 18 CFR 806.22(f)

1. Chesapeake Appalachia, L.L.C., Pad ID: Parkhurst, ABR-201309017.R1, Auburn Township, Susquehanna County, Pa.; Consumptive Use of Up to 7.5000 mgd; Approval Date: April 9, 2018.

2. SWN Production Company, LLC, Pad ID: Martin (Pad 11), ABR-201304009.R1, Standing Stone Township, Bradford County, Pa.; Consumptive Use of Up to 4.9990 mgd; Approval Date: April 9, 2018.

3. SWN Production Company, LLC, Pad ID: Ferguson-Keisling (Pad B), ABR-201304010.R1, Herrick Township, Bradford County, Pa.; Consumptive Use of Up to 4.9990 mgd; Approval Date: April 9, 2018.

4. SWN Production Company, LLC, Pad ID: Tice (13 Pad), ABR-201304011.R1, Orwell Township, Bradford County, Pa.; Consumptive Use of Up to 4.9990 mgd; Approval Date: April 9, 2018.

5. SWN Production Company, LLC, Pad ID: RU-23 MITCHELL PAD, ABR-201304012.R1, New Milford Township, Susquehanna County, Pa.; Consumptive Use of Up to 4.9990 mgd; Approval Date: April 9, 2018.

6. Repsol Oil & Gas USA, LLC, Pad ID: TWIN RIDGE (02 185), ABR-201804001, Covington Township, Tioga County, Pa.; Consumptive Use of Up to 6.0000 mgd; Approval Date: April 13, 2018.

7. Cabot Oil & Gas Corporation, Pad ID: MooreS P1, ABR-201804002, Jessup Township, Susquehanna County, Pa.; Consumptive Use of Up to 5.0000 mgd; Approval Date: April 13, 2018.

8. Repsol Oil & Gas USA, LLC, Pad ID: HUGHES (02 204) E, ABR-201804003, Liberty Township, Tioga County, Pa.; Consumptive Use of Up to 6.0000 mgd; Approval Date: April 18, 2018.

9. SWEPI LP, Pad ID: Flack 502, ABR-201304014.R1, Sullivan Township, Tioga County, Pa.; Consumptive Use of Up to 4.0000 mgd; Approval Date: April 20, 2018.

10. SWEPI LP, Pad ID: Edkin 499, ABR-201304018.R1, Sullivan Township, Tioga County, Pa.; Consumptive Use of Up to 4.0000 mgd; Approval Date: April 20, 2018.

11. SWN Production Company, LLC, Pad ID: WY-10-FALCONERO-PAD, ABR-201804004, Forkston Township, Wyoming County, Pa.; Consumptive Use of Up to 4.9990 mgd; Approval Date: April 23, 2018.

12. Campbell Oil & Gas, Inc., Pad ID: Mid Penn Unit A Well Pad, ABR-201304002.R1, Bigler Township, Clearfield County, Pa.; Consumptive Use of Up to 2.0000 mgd; Approval Date: April 24, 2018.

13. Seneca Resources Corporation, Pad ID: Gamble Pad K, ABR-201309018.R1, Lewis and Gamble Townships, Lycoming County, Pa.; Consumptive Use of Up to 4.0000 mgd; Approval Date: April 27, 2018.

14. Chief Oil & Gas LLC, Pad ID: Loch Drilling Pad, ABR-201311001.R1, Nicholson Township, Wyoming County, Pa.; Consumptive Use of Up to 2.0000 mgd; Approval Date: April 30, 2018.

15. Chief Oil & Gas LLC, Pad ID: Kupscznk D Drilling Pad, ABR-201311003.R1, Springville Township, Susquehanna County, Pa.; Consumptive Use of Up to 2.0000 mgd; Approval Date: April 30, 2018.

16. Repsol Oil & Gas USA, LLC, Pad ID: KROPP (07 017) C, ABR-201305010.R1, Apolacon Township, Susquehanna County, Pa.; Consumptive Use of Up to 6.0000 mgd; Approval Date: April 30, 2018.

17. Repsol Oil & Gas USA, LLC, Pad ID: TAYLOR BUCKHORN LAND CO (07 010), ABR-201305011.R1, Apolacon Township, Susquehanna County, Pa.; Consumptive Use of Up to 6.0000 mgd; Approval Date: April 30, 2018.

18. Repsol Oil & Gas USA, LLC, Pad ID: SCHMITT (07 043) D, ABR-201305012.R1, Apolacon Township, Susquehanna County, Pa.; Consumptive Use of Up to 6.0000 mgd; Approval Date: April 30, 2018.

Authority: Pub. L. 91-575, 84 Stat. 1509 et seq., 18 CFR parts 806, 807, and 808.

Dated: June 26, 2018.
Stephanie L. Richardson,
Secretary to the Commission.

[FR Doc. 2018-14092 Filed 6-29-18; 8:45 am]

BILLING CODE 7040-01-P